DEPARTMENT OF THE INTERIOR

Bureau of Land Management

[WY-957-07-1420-BJ-TRST]

Notice of Filing of Plats of Survey, Nebraska

ACTION: Notice of filing of plats of survey, Nebraska.

AGENCY: Bureau of Land Management, Interior.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of portions of the boundary between the States of Kansas and Nebraska, the east boundary, the subdivisional lines, the subdivision of section 36 and the 1927 adjusted record meanders of the right bank of the Missouri River, and the survey of a portion of the subdivision of section 36 and the metes-and-bounds survey of a portion of the as-built westerly right-of-way of Nebraska State Highway No. 7 in section 36, Township 1 North, Range 18 East, and the dependent resurvey of a portion of the boundary between the States of Kansas and Nebraska and the 1927 adjusted record meander of the right bank of the Missouri River in section 31, and the metes-and-bounds survey of a portion of the as-built westerly right-of-way of Nebraska State Highway No. 7 in section 31, Township 1 North, Range 19 East, Sixth Principal Meridian, Nebraska, was accepted August 27, 2007.

Copies of the preceding described plat and field notes are available to the public at a cost of $1.10 per page.

Dated: September 20, 2007.
John P. Lee,
Chief Cadastral Surveyor, Division of Support Services.

[FR Doc. E7-18946 Filed 9-25-07; 8:45 am]

BILLING CODE 4467-22-P